DEPARTMENT OF LABOR

Employment and Training Administration

[TA-W-58,442]

Weyerhaeuser Company, Aberdeen, WA; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on January 25, 2006, applicable to workers of Weyerhaeuser Company, Large Log Mill, Aberdeen, Washington. The notice was published in the Federal Register on February 10, 2006 (71 FR 7077).

At the request of the State agency, the Department reviewed the certification for workers of the subject firm. The Department limited the certification coverage to only workers of the Large Log Mill of the subject firm. New corrected information revealed that the Aberdeen, Washington location of Weyerhaeuser Company operates as a fully integrated work site and that the workers are not separately identifiable by product or location at the production complex.

The intent of the Department's certification is to cover all workers manufacturing softwood dimensional lumber at Weyerhaeuser Company, Aberdeen, Washington, who were adversely affected by increased customer imports.

Accordingly, the Department is amending the certification determination to properly reflect this matter.

The amended notice applicable to TA-W-58,442 is hereby issued as follows:

• All workers of Weyerhaeuser Company, Aberdeen, Washington, who became totally or partially separated from employment on after November 21, 2004, through January 25, 2008, are eligible to apply for adjustment assistance under Section 223 of the Trade Act of 1974, and are also eligible to apply for alternative trade Adjustment assistance under Section 246 of the Trade Act of 1997.

Signed at Washington, DC, this 23rd day of January 2007.
Richard Church,
Certifying Officer, Division of Trade Adjustment Assistance.

[FR Doc. E7-4061 Filed 3-7-07; 8:45 am]

BILLING CODE 4510-FN-P